DEPARTMENT OF TRANSPORTATION

Federal Transit Administration

Preparation of Environmental Impact Statement for the Lahaina Small Boat Harbor Ferry Pier in Maui County, HI

AGENCY: Federal Transit Administration (FTA), Department of Transportation (DOT).

ACTION: Notice of intent to prepare an Environmental Impact Statement (EIS).

SUMMARY: The Federal Transit Administration and the State of Hawaii, Department of Land and Natural Resources (DLNR) intend to jointly prepare an Environmental Impact Statement on a proposal by DLNR to build an additional ferry pier next to the existing pier in the Lahaina Small Boat Harbor, within the boundaries of the Lahaina National Historic Landmark District on the west coast of the island of Maui, Hawaii. The proposed project would include construction of an additional pier and to dredge the harbor. The existing ferry facility at times is unable to load or unload inter-island ferry passengers in a timely manner due to ship traffic and related onshore activities. The proposed project is intended to improve existing operating conditions at the harbor by alleviating ship traffic and harbor congestion.

The EIS will be prepared to satisfy the requirements of the National Environmental Policy Act of 1969 (NEPA). FTA and DLNR seek public and interagency input on the scope of the NEPA EIS for the project, including the alternatives to be considered and the environmental impacts to be evaluated.

DATES: Scoping Comments Due Date: Written comments on the scope of the NEPA review, including the alternatives to be considered and the related impacts to be assessed, should be received no later than January 7, 2005. Written comments should be sent to the DLNR Project Manager at the address given below in ADDRESSES.

Scoping Meeting Date: A public scoping meeting and open house will be held at 6 p.m. on December 8, 2004 at the Lahaina Intermediate School, cafeteria, located at 871 Lahainaluna Road, in the Town of Lahaina. Oral and written comments may be given at the scoping meeting, and a stenographer will record oral comments. The formal scoping meeting will be preceded by an open house from 4 p.m. to 6 p.m. allowing the public to discuss the EIS scope and proposed project informally with DLNR staff and project consultant team. The meeting location is accessible to people with disabilities. Persons with special needs should call DLNR at (808) 587-0230 at least 72 hours prior to the scoping meeting.

ADDRESSES: Written comments should be sent to State of Hawaii, Department of Land and Natural Resources, Attention: Eric Hirano, Chief Engineer, Engineering Division, P.O. Box 373, Honolulu, Hawaii, 96809. Phone: (808) 587-0230. Fax: (808) 587-0283. E-mail: eric.t.hirano@hawaii.gov. If you wish to be placed on the mailing list to receive further information as the EIS study develops, contact Eric Hirano at the address listed above. Please specify the mailing list for the Lahaina Small Boat Harbor Ferry Pier Environmental Impact Statement. Copies of the scoping information packet which includes rough sketches of the various alternatives under consideration can also be obtained by contacting Eric Hirano as indicated above.

FOR FURTHER INFORMATION CONTACT: Donna Turchie, Federal Transit Administration, 201 Mission Street, Suite 2210, San Francisco, CA 94105. Phone: (415) 744-2737. Fax: (415) 794-2726.

SUPPLEMENTARY INFORMATION:

I. Scoping

The FTA and DLNR invite all interested individuals and organizations, and federal, state, and local agencies to comment on the scope of the EIS. During the scoping process, comments should focus on proposing alternatives that may be less costly or have less environmental impacts while achieving similar transportation objectives, and on identifying specific social, economic, or environmental issues to be evaluated. At this time, comments should not focus on a preference for a particular alternative. Additional opportunities for public participation will be announced through mailings, notices, advertisements, and press releases.

FTA must also comply with other environmental requirements, such as Section 4(f) of the Department of Transportation Act (49 U.S.C. 303) and Section 106 of the National Historic Preservation Act and Title VI of the Civil Rights Act of 1964, that apply to Federal actions.

II. Description of Study Area

The proposed ferry pier improvements are located in the Lahaina Small Boat Harbor, within the boundaries of the Lahaina National Historic Landmark District, an area listed on the National Register of Historic Places, on the west coast of the island of Maui, Hawaii.

The project area is located within the limits of the Special Management Area for the island of Maui and is also situated within the boundaries of Historic District No. 1, one of two County Historic districts in the town of Lahaina.

Coastal waters to the south of the proposed ferry pier are occupied by the existing pier and the Lahaina Small Boat Harbor, while waters to the north are undeveloped. Approximately 100 feet to the west of the existing pier lies the seaward end of the harbor's breakwater. Paralleling the shoreline, the breakwater is located about 200 feet from shore and is nearly 1,000 feet in length.

The project area is situated along the western extent of Lahaina's business district. Numerous retail stores and services are located along Front Street, the major venue for commercial activity in Lahaina Town. The Lahaina Public Library, and the historic Pioneer Inn, as well as other historic sites such as the Hauola Stone, the Brick Palace, the Old Fort, the Lahaina Courthouse, and the Banyan Tree are located in the vicinity of the proposed project.

III. Purpose and Need

The existing pier at Lahaina Small Boat Harbor is about 66 feet in width and 120 feet in length. The approximately 8,000 square foot pier contains a harbor master's office, a ferry kiosk, and diesel fuel dispensing and sewage pumping facilities. The existing pier is used for loading and unloading passengers onto recreational and commercial vessels, including cruise ship tenders (i.e., shuttle craft) and inter-island ferry vessels. The pier provides berthing for the Carthaginian II, a replica of a whaling ship which serves as a floating museum. The pier is also used by surfers to gain access to nearby surf spots.

Since the late 1980s, inter-island ferry service between Lanai and Maui, as well as Molokai and Maui, has been provided by private operators. Presently, the Lahaina/Lanai ferry schedules five daily round trips between the Lahaina and Manele Small Boat Harbors. The Molokai/Maui ferry schedules two round trips a day between the Lahaina Small Boat Harbor and the Kaunakakai Harbor on Mondays through Saturdays. On Sundays, the Molokai/Maui ferry makes a one way trip from Molokai to Maui. At times, the inter-island ferry vessels are unable to load or unload their passengers in a timely manner due to ship traffic and related onshore activities.

The Lahaina Small Boat Harbor contains 100 berths for recreational and commercial craft. Presently, there are 59 individuals on the waiting list for berths at the harbor. On “Boat Days”, when cruise ships are in port, the harbor is one of the busiest in the State. On these days, the activity level at the existing pier is heightened by the additional traffic generated by cruise ship tenders. “Boat Day” conditions are further constrained when there are military vessels or two or more cruise ships in port. During normal conditions, routine refueling and sewage pump-out activities at the pier add to vessel traffic congestion. The proposed project is intended to improve existing operating conditions at the Lahaina Small Boat Harbor by alleviating ship traffic and harbor congestion.

IV. Alternatives

During the project's preliminary conceptual development process, use and operational factors were examined with regard to the proposed ferry pier and comfort station improvements. This evaluation included an examination of existing harbor facilities and activities with regard to current ferry and cruise ship operations and comfort station use, as well as the provision of a new berthing area for the replacement vessel for the Carthaginian II and for surfer access to the nearby “Harbor” and “Breakwall” surf spots. Preliminary conceptual plans for the proposed project were presented at a stakeholders' meeting on April 8, 2004.

In light of the foregoing conceptual plan development by DLNR, FTA proposes to evaluate the following alternatives in the EIS:

1. Future No Build Alternative—This alternative would maintain present physical conditions and existing operating policies as ship traffic at the Lahaina Small Boat Harbor grows.

2. Initial Ferry Pier Alternative—This alternative sited the new pier about 60 feet to the north of the existing pier. The proposed pier would consist of a concrete and sheet pile system structure that would be 48 feet in width and nearly 146 feet in length. A ramp (25 ft. width x 53 ft. length) would provide pedestrian access between the shoreline and the new ferry pier. New dredging will be required to widen existing entrance channel and create additional berthing areas.

3. Initial Ferry Pier with Multi-Purpose Pier Alternative—The multi-purpose pier (15 ft. width x 90 ft. length) presented at the stakeholders' meeting would provide a berthing area for the Carthaginian II or its replacement vessel and provide surfer access to nearby surf breaks. The multi-purpose pier would be secured by concrete pilings and contain a floating, molded composite deck. A concrete walkway and gangway ramp (8 ft. width x 60 ft. length) would link the multi-purpose pier with the initial ferry pier as presented in alternative 2, at a point about 24 to 30 feet from the shoreline. At its nearest point, the multi-purpose pier would lie approximately 60 feet from the Hauola Stone (a historic site). New dredging will be required to widen existing entrance channel and create berthing areas.

4. Initial Ferry Pier with Building Alternative—A two-story building (32 feet in height) was proposed as a possible addition to the new ferry pier. The ground level of the building would include about 4,500 square feet of open area for passenger arrivals and departures, while the second level would contain a total floor area of approximately 2,970 square feet which would include public restrooms, a janitor's closet, a wrap-around deck and 1,175 square feet of area for office and concession space. Stairs and an elevator would provide pedestrian access between levels. New dredging will be required to widen existing entrance channel and create additional berthing areas.

5. Modified Ferry Pier Alternative—Based upon comments received during the stakeholders' meeting, DLNR re-evaluated and modified their conceptual plans for the ferry pier. The DLNR's modified plan proposes a new ferry pier 35 feet wide and 116 feet long, a concrete walkway 16 feet wide and 60 feet long with safety railings that will connect to the existing pier, a shade structure on the new ferry pier, a small floating platform with a moveable gangway, and dredging to widen the entrance channel and berthing area to accommodate docking of two vessels (one on each side of the new pier) up to 101 feet in length with a beam of 24 feet. A low-rise, open-sided roofed structure, which would cover a portion of the existing pier is currently being evaluated by the DLNR for inclusion as a project component.

Any additional reasonable alternatives that emerge from the scoping process will also be considered. The formulation of preferred and alternative design schemes is an iterative process and will need to consider various factors including, but not limited to the following:

• The location of historic sites in the area and potential proximity impacts to those sites.

• The location of existing facilities in the area, such as the Pioneer Inn, the Lahaina Public Library, and King Kamehameha III Elementary School, and potential use impacts to these facilities.

• Existing baseline conditions and potential impacts to marine life, water quality, and littoral processes.

• Surrounding structures and uses in the area and potential impacts to vehicle and pedestrian traffic, open space areas, ocean and mountain views, and lateral views along the shoreline.

V. Probable Effects

The EIS will evaluate and fully disclose the environmental consequences of building Lahaina Small Boat Harbor Ferry Pier Improvements in advance of any decision by FTA to commit financial or other resources toward the implementation of a particular alternative. The EIS will examine the socio-economic and environmental impacts of the alternatives. In addition, it will discuss actions to reduce or eliminate any adverse impacts.

Environmental issues to be analyzed in the EIS include: near-shore marine environmental impacts, flora and fauna impacts, air quality impacts, noise impacts, scenic and open space impacts, as well as impacts to the socio-economic environment and public services. Impacts to infrastructure will also be assessed including changes to roadway levels of service; impacts on surrounding land use, including consistency of proposed improvements with local plans and policies; and potential impacts to historic and cultural resources. Cumulative and growth-inducing impacts will be examined. Impacts will be evaluated for both the temporary construction period and for the long-term operation of the alternatives. Measures to mitigate any adverse impacts will be identified.

To ensure that all significant issues related to this proposed action are identified and addressed, scoping comments and suggestions are invited from all interested parties. Comments should be directed to the DLNR as noted in the ADDRESSES section above.

VI. FTA Procedures

The EIS is being prepared in accordance with the National Environmental Policy Act of 1969 (NEPA), its implementing regulations by the Council on Environmental Quality (40 CFR parts 1500-1508), and with the FTA/Federal Highway Administration's “Environmental Impact and Related Procedures” (23 CFR part 771). In accordance with FTA policy, the NEPA process will also address the requirements of other applicable environmental laws, regulations and executive orders, such as the National Historic Preservation Act of 1966, Section 4(f) of the U.S. Department of Transportation Act, and Executive Orders on Environmental Stewardship and Transportation Infrastructure Project Reviews, Environmental Justice, Floodplain Management, and Protection of Wetlands.

Upon completion, the Draft EIS will be distributed for public and agency review and comment. A public hearing on the Draft EIS will be held within the study area. Based on the Draft EIS and the public and agency comments received, FTA and DLNR may further refine and analyze the alternatives in the Final EIS.

Issued on: November 10, 2004.
Leslie T. Rogers,
Regional Administrator.

[FR Doc. 04-25591 Filed 11-17-04; 8:45 am]

BILLING CODE 4910-57-P